DEPARTMENT OF ENERGY

Federal Energy Regulatory Commission

[Docket No. CP02-416-001]

Southern Star Central Gas Pipeline, Inc.; Notice of Site Visit

May 14, 2003.

On Wednesday, May 28, 2003, Office of Energy Projects staff will participate in a site visit to the area proposed for construction of natural gas pipeline facilities by Southern Star Central Gas Pipeline, Inc. for its Southwest Missouri Expansion Project in Cherokee County, Kansas, and Jasper County, Missouri, in the above-referenced docket. The site visit will begin at 8:30 a.m. from the Holiday Inn, 3615 Range Line Road, Joplin, Missouri. All interested parties may attend the site visit. Those planning to attend must provide their own transportation. Anyone interested in additional information on the site visit may contact the Commission's Office of External Affairs at 1-866-208-FERC.

Magalie R. Salas,
Secretary.

[FR Doc. 03-12620 Filed 5-19-03; 8:45 am]

BILLING CODE 6717-01-P